DEPARTMENT OF ENERGY

Energy Information Administration

Agency Information Collection Activities: Proposed Collection; Comment Request

AGENCY: U.S. Energy Information Administration (EIA), Department of Energy (DOE).

ACTION: Agency information collection activities: Proposed collection; comment request.

SUMMARY: The EIA is soliciting comments on the proposed three-year extension to the EIA-22M, “Monthly Biodiesel Production Survey.”

DATES: Comments must be filed by July 5, 2011. If you anticipate difficulty in submitting comments within that period, contact the person listed below as soon as possible.

ADDRESSES: Send comments to Chris Buckner. To ensure receipt of the comments by the due date, submission by FAX (202-586-1076) or e-mail (chris.buckner@eia.gov) is recommended. The mailing address is Office of Petroleum and Biofuels Statistics, EI-25, Forrestal Building, U.S. Department of Energy, 1000 Independence Ave., SW., Washington, DC 20585. Alternatively, Chris Buckner may be contacted by telephone at 202-586-6670.

FOR FURTHER INFORMATION CONTACT: Requests for additional information or copies of any forms and instructions should be directed to Chris Buckner at the address listed above. The proposed forms and changes in definitions and instructions are also available on the Internet at: http://www.eia.doe.gov/survey/#eia-22m.

SUPPLEMENTARY INFORMATION:

I. Background

II. Current Actions

III. Request for Comments

I. Background

The Federal Energy Administration (FEA) Act of 1974 (15 U.S.C. 772(b), Pub. L. 93-275), requires the EIA to carry out a centralized, comprehensive, and unified energy information program. This program collects, evaluates, assembles, analyzes, and disseminates information on energy resource reserves, production, demand, technology, and related economic and statistical information. This information is used to assess the adequacy of energy resources to meet near and longer term domestic demands.

Section 503 of the Energy Policy Act of 1992, Public Law 102-486 (EPACT1992), (42 U.S.C. 13253) directs DOE to estimate consumption of alternative and replacement fuels annually. Since 1994, EIA has published replacement fuel consumption data annually in Alternatives to Traditional Transportation Fuels.¹ Biodiesel consumption (estimated by EIA based on secondary sources) has been included since 2000.

¹ http://www.eia.doe.gov/cneaf/alternate/page/atftables/afvtransfuel_II.html

The Energy Policy Act of 2005 (EPACT2005), Public Law 109-058 (42 U.S.C. 15801) specifies in greater detail how EIA should monitor biodiesel. Section 42 U.S.C. 7135(m)(1) states:

“In order to improve the ability to evaluate the effectiveness of the Nation's renewable fuels mandate, the [Administrator] shall conduct and publish the results of a survey of renewable fuels demand in the motor vehicle fuels market in the United States monthly, and in a manner designed to protect the confidentiality of individual responses. In conducting the survey, the Administrator shall collect information both on a national and regional basis, including each of the following:”

(A) The quantity of renewable fuels produced

(B) The quantity of renewable fuels blended

(C) The quantity of renewable fuels imported

(D) The quantity of renewable fuels demanded

(E) Market price data

(F) Such other analyses or evaluations as the Administrator finds necessary to achieve the purposes of this section.

42 U.S.C. 7135(m)(2) also provides:

“The Administrator shall also collect or estimate information both on a national and regional basis, pursuant to subparagraphs (A) through (F) of paragraph (1), for the 5 years prior to implementation of this subsection.”

The EIA, as part of its effort to comply with the Paperwork Reduction Act of 1995 (Pub. L. 104-13, 44 U.S.C. Chapter 35), provides the general public and other Federal agencies with opportunities to comment on collections of energy information conducted by or in conjunction with the EIA. Any comments received help the EIA prepare data requests that maximize the utility of the information collected, and to assess the impact of collection requirements on the public. Also, the EIA will later seek approval for this collection by the Office of Management and Budget (OMB) under Section 3507(a) of the Paperwork Reduction Act of 1995.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

The EIA proposes a three-year extension to the EIA-22M, “Biodiesel Production Survey” with no changes.

III. Request for Comments

Prospective respondents and other interested parties should comment on the actions discussed in item II. The following guidelines are provided to assist in the preparation of comments.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average:

Estimated hours per response: 3 hours. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the forms. They also will become a matter of public record.

Statutory Authority: Section 3507(h)(1) of the Paperwork Reduction Act of 1995, Federal Energy Administration Act of 1974 (15 U.S.C. 761 et seq.), and the DOE Organization Act (42 U.S.C. 7101 et seq.).

Issued in Washington, DC, April 28, 2011.
Stephanie Brown,
Director, Office of Survey Development & Statistical Integration, U.S. Energy Information Administration.

[FR Doc. 2011-10977 Filed 5-4-11; 8:45 am]

BILLING CODE 6450-01-P